OFFICE OF PERSONNEL MANAGEMENT

Submission for Review: Application to Make Deposit or Redeposit (CSRS), SF 2803, and Application to Make Service Credit Payment for Civilian Service (FERS), SF 3108

AGENCY: U.S. Office of Personnel Management.

ACTION: 30-Day Notice and request for comments.

SUMMARY: The Retirement Services, Office of Personnel Management (OPM), offers the general public and other Federal agencies the opportunity to comment on a revised information collection request (ICR) 3206-0134 on two forms: Application to Make Deposit or Redeposit (CSRS) and Application to Make Service Credit Payment for Civilian Service (FERS). As required by the Paperwork Reduction Act of 1995 (Pub. L. 104-13, 44 U.S.C. chapter 35) as amended by the Clinger-Cohen Act (Pub. L. 104-106), OPM is soliciting comments for this collection. This information collection was previously published in the Federal Register on December 7, 2012, at Volume 77 FR 73061, allowing for a 60-day public comment period. No comments were received for this information collection. The purpose of this notice is to allow an additional 30 days for public comments. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 29, 2013. This process is conducted in accordance with 5 CFR 1320.1.

ADDRESSES: Interested persons are invited to submit written comments on the proposed information collection by mail to the Office of Information and Regulatory Affairs, Office of Management and Budget, 725 17th Street NW., Washington, DC 20503, Attention: Desk Officer for the Office of Personnel Management, by email to oira_submission@omb.eop.gov, or by fax to (202) 395-6974.

FOR FURTHER INFORMATION CONTACT: A copy of this ICR, with applicable supporting documentation, may be obtained by contacting the Office of Information and Regulatory Affairs, Office of Management and Budget, 725 17th Street NW., Washington, DC 20503, Attention: Desk Officer for the Office of Personnel Management, by email to oira_submission@omb.eop.gov, by fax to (202) 395-6974.

SUPPLEMENTARY INFORMATION: SF 2803, Application to Make Deposit or Redeposit (CSRS), and SF 3108, Application to Make Service Credit Payment for Civilian Service (FERS), are applications to make payment by persons who are eligible to pay for Federal service not subject to retirement deductions and/or for Federal service not subject to retirement deductions that were subsequently refunded to the applicant.

Analysis

Agency: Retirement Operations, Retirement Services, Office of Personnel Management.

Title: Application to Make Deposit or Redeposit (CSRS), and Application to Make Service Credit Payment for Civilian Service (FERS).

OMB Number: 3206-0134.

Frequency: On occasion.

Affected Public: Individuals or Households.

Number of Respondents: 150.

Estimated Time per Respondent: 30 minutes.

Total Burden Hours: 75.

U.S. Office of Personnel Management.
John Berry,
Director.

[FR Doc. 2013-07158 Filed 3-27-13; 8:45 am]

BILLING CODE 6325-38-P